DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before July 30, 2025.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington, DC or at http://regulations.gov.

This notice of receipt of applications for special permit is published in accordance with part 107 of the Federal hazardous materials transportation law (49 U.S.C. 5117(b); 49 CFR 1.53(b)).

Issued in Washington, DC, on July 9, 2025.
Donald P. Burger,
Chief, General Approvals and Permits Branch.

Application No. | Applicant | Regulation(s) affected | Nature of the special permits thereof
Special Permits Data
10878-M | Tankcon FRP Inc | 172.102(c)(3), 172.203(a), 173.242 | To modify the special permit to authorize additional packagings. (mode 1).
12098-M | Mission Systems Orchard Park Inc | 173.301(f), 173.302a(a)(1) | To modify the special permit to use an alternate procedure for the pressure cycling test and to change the minimum number of pressure cycles from 10,000 cycles to 5,015 cycles. (modes 1, 2, 4).
15577-M | Olin Winchester LLC | 172.101(i)(3) | To modify the special permit to include additional locations. (mode 1).
16011-M | Americase, LLC | 172.102(c)(1) | To modify the special permit to revise paragraphs 7.c.(1) and (2) and to delete paragraph 7.c.(6) of the special permit. (modes 1, 2).
16163-M | The Dow Chemical Company | 172.203(a), 172.302(c), 180.605(h)(3) | To modify the special permit to authorize an additional hazardous material. (modes 1, 2, 3).
20260-M | Rogers Helicopters, Inc | 172.101(j), 172.200, 172.200(a), 172.204(c)(3), 172.300, 172.300(a), 172.301(c), 172.400a(a), 172.400(b), 173.27(b)(2), 175.75(b), 175.75(c), 178.1010(a)(1) | To modify the special permit to authorize operations with a single pilot aboard a multi-engine aircraft carrying explosives. (mode 4).
20519-M | Richemont North America, Inc | 173.4b(a)(10) | To modify the special permit by deleting paragraph 8.f. of the special permit. (modes 1, 4, 5).
20645-M | Walmart Inc | 173.159a(c)(2), 173.185(c)(1)(iii), 173.185(c)(1)(iv), 173.185(c)(1)(v), 173.185(c)(3) | To modify the special permit to authorize an additional packaging type. (modes 1, 2).
21323-M | Canadian Pacific Railway Company | 172.203(a), 174.26(a) | To modify the special permit to include another company (The Kansas City Southern Railway Company). (mode 2).
21663-M | Orbion Space Technology, Inc | 172.203(a), 172.301(c), 173.301(f)(1), 173.302(a)(1) | To modify the special permit to authorize an additional non-DOT specification cylinder. (modes 1, 2, 3, 4, 5).
21751-M | New Pig Corporation | 172.200, 172.300, 172.400, 172.600, 172.700(a), 173.185(c)(1)(iii), 173.185(f) | To modify the special permit to not require the cells and batteries to be tested and to not require a state of charge limitation. (mode 1).
21922-M | Archer Aviation Inc | 172.101(j), 173.185(e) | To modify the special permit to authorize an additional packaging. (mode 4).

[FR Doc. 2025-13236 Filed 7-14-25; 8:45 am]

BILLING CODE 4910-60-P